DEPARTMENT OF ENERGY

Federal Energy Regulatory Commission

[Project No. 2299-082; Project No. 14581-002]

Turlock Irrigation District; Modesto Irrigation District; Notice of Availability of the Final Environmental Impact Statement for the Don Pedro and La Grange Projects

In accordance with the National Environmental Policy Act of 1969 and the Federal Energy Regulatory Commission's (Commission) regulations, 18 CFR part 380, the Office of Energy Projects has reviewed the applications for new license for the Don Pedro Project (FERC No. 2299) and for an original license for the La Grange Project (FERC No. 14581) and has prepared a final environmental impact statement (EIS) for the projects. The Don Pedro Project is located on the Tuolumne River in Tuolumne County, California. It occupies 4,802 acres of federal land administered by the U.S. Department of Interior, Bureau of Land Management. The La Grange Project is located on the Tuolumne River immediately downstream of the Don Pedro Project in Stanislaus and Tuolumne Counties, California. It occupies 14 acres of federal land administered by BLM.

The final EIS contains staff's evaluations of the applicant's proposals and the alternatives for relicensing the Don Pedro Project and licensing the La Grange Project. The final EIS documents the views of governmental agencies, non-governmental organizations, affected Indian tribes, the public, the license applicants, and Commission staff.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Dated: July 7, 2020.
Kimberly D. Bose,
Secretary.

[FR Doc. 2020-15023 Filed 7-10-20; 8:45 am]

BILLING CODE 6717-01-P